DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995, this notice announces that the Information Collection abstracted below has been forwarded to the Office of Management and Budget (OMB) for review and approval. The nature of the information collection is described as well as its expected burden. The Federal Register Notice with a 60-day comment period soliciting comments on the following collection of information was published on October 15, 2008. No comments were received.

DATES: Comments must be submitted on or before January 29, 2009.

FOR FURTHER INFORMATION CONTACT: Anne Dougherty, Maritime Administration, 1200 New Jersey Avenue, SE., Washington, DC 20590. Telephone: 202-366-5469; or E-MAIL: anne.dougherty@dot.gov.

SUPPLEMENTARY INFORMATION: Maritime Administration.

Title: Information to Determine Seamen's Re-employment Rights—National Emergency.

OMB Control No.: 2133-0526.

Type of Request: Extension of currently approved collection.

Affective Public: U.S. merchant seamen who have completed designated national service during a time of maritime mobilization need and are seeking re-employment with a prior employer.

Forms: None.

Abstract: This collection is needed in order to implement provisions of the Maritime Security Act of 1996. These provisions grant re-employment rights and other benefits to certain merchant seamen serving aboard vessels used by the United States during times of national emergencies. The Maritime Security Act of 1996 establishes the procedures for obtaining the necessary Maritime Administration certification for re-employment rights and other benefits.

Need and Use of the Information: The Maritime Administration will use the information to determine if U.S. civilian mariners are eligible for re-employment rights under the Maritime Security Act of 1996.

Dates: Comments should be submitted on or before March 2, 2009.

Annual Estimated Burden Hours: 10 hours.

ADDRESSES: Send comments to the Office of Information and Regulatory Affairs, Office of Management and Budget, 725 17th Street, NW., Washington, DC 20503, Attention: Maritime Administration Desk Officer.

Comments are invited on: Whether the proposed collection of information is necessary for the proper performance of the functions of the agency, including whether the information will have practical utility; the accuracy of the agency's estimate of the burden of the proposed information collection; ways to enhance the quality, utility and clarity of the information to be collected; and ways to minimize the burden of the collection of information on respondents, including the use of automated collection techniques or other forms of information technology. A comment to OMB is best assured of having its full effect, if OMB receives it within 30 days of publication.

Dated: December 22, 2008.
Leonard Sutter,
Secretary, Maritime Administration.

[FR Doc. E8-30964 Filed 12-29-08; 8:45 am]

BILLING CODE 4910-81-P